DEPARTMENT OF THE INTERIOR

Bureau of Land Management

[NV-030-1920-ET-4132; NVN-37171]

Legal Description of Naval Air Station Fallon Ranges—Range Safety and Training Withdrawal; Nevada

AGENCY: Bureau of Land Management, Interior.

ACTION: Notice.

SUMMARY: This notice provides official publication of the legal description for the Department of the Navy's Range Safety and Training Withdrawal as required by sec. 3012 of Pub. L. 106-65, enacted October 5, 1999.

EFFECTIVE DATE: October 5, 1999.

FOR FURTHER INFORMATION CONTACT: Dennis J. Samuelson, BLM Nevada State Office, P.O. Box 12000, Reno, Nevada 89520, (775)-861-6532.

SUPPLEMENTARY INFORMATION: Pub. L. 106-65 withdrew 201,933 acres in Churchill County, Nevada for the Naval Air Station Fallon Range Safety and Training Withdrawal. The legal description for this withdrawal is as follows:

Mount Diablo Meridian

B-16

T. 17 N., R. 27 E.,

Secs. 1 to 3, inclusive;

Sec. 11, E½;

Secs. 12 and 13;

Sec. 14, E½;

Secs. 23 to 26, inclusive;

Secs. 35 and 36.

T. 18 N., 27 E.,

Secs. 25 and 26;

Sec. 35, E½;

Sec. 36.

T. 16 N., R. 28 E.,

Sec. 3, lots 2 to 4, inclusive, SW¼NE¼, and S½NW¼;

Sec. 4, lots 1 to 4, inclusive, and S½N½;

T. 17 N., R. 28 E.,

Secs. 4 to 9, inclusive;

Secs. 16 to 21, inclusive;

Sec. 22, W½NE¼, NW¼, and S½;

Secs. 27 to 34, inclusive;

T. 18 N., R. 28 E.,

Sec. 28, W½E½ and W½;

Secs. 29 to 32, inclusive;

Sec. 33, W½E½ and W½.

The area described for B-16 contains 27,252.76 acres in Churchill County.

B-17

T. 15 N., R. 33 E.,

Secs. 1 to 5, inclusive;

Sec. 6, that portion east of the easterly right-of-boundary for State Route 839;

Sec. 7, that portion east of the easterly right-of-boundary for State Route 839;

Secs. 8 to 17, inclusive;

Sec. 18, that portion east of the easterly right-of-boundary for State Route 839;

Sec. 19, that portion east of the easterly right-of-boundary for State Route 839;

Secs. 20 to 28, inclusive,

Secs. 35 and 36.

T. 16 N., R. 33 E.,

Sec. 1, that portion south of the southerly right-of-boundary for U.S. Highway 50;

Sec. 2, that portion south of the southerly right-of-boundary for U.S. Highway 50;

Sec. 3, those portions of the S½NE¼, SW¼NW¼, S½, south of the southerly right-of-way boundary for U.S. Highway 50;

Sec. 4, that portion south of the southerly right-of-boundary for U.S. Highway 50;

Sec. 5, that portion south of the southerly right-of-way boundary for U.S. Highway 50 and east of the easterly right-of-way boundary for State Route 839;

Sec. 8, that portion east of the easterly right-of-boundary for State Route 839;

Sec. 9 to 16, inclusive;

Sec. 17, that portion east of the easterly right-of-boundary for State Route 839;

Sec. 18, that portion east of the easterly right-of-boundary for State Route 839;

Sec. 19, that portion east of the easterly right-of-boundary for State Route 839;

Secs. 20 to 29, inclusive;

Sec. 30, that portion east of the easterly right-of-boundary for State Route 839;

Sec. 31, that portion east of the easterly right-of-boundary for State Route 839;

Sec. 32, that portion east of the easterly right-of-boundary for State Route 839;

Secs. 33 to 36, inclusive.

T. 15 N., R. 34 E., (partially surveyed)

Sec. 4, lot 4 and W½SW¼;

Secs. 5 and 6;

Sec. 7, except patented lands;

Sec. 8;

Sec. 9, W½W½;

Sec. 16, W½W½;

Sec. 17;

Sec. 18, except patented lands;

Secs. 19 and 20.

Sec. 21, W½NW¼ and NW¼SW¼;

Secs. 29 to 31, inclusive.

T. 16 N., R. 33½ E, (unsurveyed)

Secs. 1, that portion south of the southerly right-of-boundary for U.S. Highway 50;

Secs. 12, 13, 24, 25, and 36.

T. 16 N., R. 34 E., (partially surveyed)

Sec. 4, lots 4, 6, 7, 8, 13, 14, and SW¼;

Sec. 5, that portion south of the southerly right-of-boundary for U.S. Highway 50;

Sec. 6, that portion south of the southerly right-of-boundary for U.S. Highway 50;

Sec. 7, except patented lands;

Sec. 8;

Sec. 9, W½ except patented lands;

Sec. 16, W½ except patented lands;

Sec. 17, lots 1 to 16, inclusive;

Sec. 18, except patented lands;

Sec. 19, except patented lands;

Sec. 20, except patented lands;

Sec. 21, W½ except patented lands;

Sec. 28, W½;

Secs. 29 to 32, inclusive;

Sec. 33, W½.

The area described for B-17 contains 52,830.35 acres in Churchill County.

B-19

T. 15 N., R. 29 E.,

Secs. 1 to 3, inclusive;

Sec. 4, those portions of lot 1, S½NE¼, E½SE¼ east of the easterly right-of-way boundary for U.S. Highway 95;

Sec. 9, that portion of the E½E½ east of the easterly right-of-way boundary for U.S. Highway 95;

Secs. 10 to 15, inclusive;

Sec. 16, that portion of the E½E½ east of the easterly right-of-way boundary for U.S. Highway 95;

Sec. 21, that portion east of the easterly right-of-way boundary for U.S. Highway 95;

Secs 22 to 24, inclusive.

T. 15 N., R. 30 E.,

Secs. 1 to 24, inclusive;

T. 16 N., R. 30 E.,

Sec. 32, SE¼;

Sec. 33, S½;

Sec. 34, S½;

Sec. 35, S½.

T. 15 N., R. 31 E.,

Secs. 5 to 8, inclusive;

Secs. 17 to 20, inclusive.

The area describe for B-19 contains 29,276.40 acres in Churchill County.

B-20

T. 23 N., R. 32 E.,

Sec. 2, 4, 6, 8, 10, 12, 14, 16, 18 20, 22, 24, 26, 28, and 30.

T. 24 N., R. 32 E.,

Secs. 20, 22, 24, 26, 28, 30, 32, 34, and 36.

T. 23 N., R. 33 E.,

Secs. 6 and 8;

Sec. 17, SE¼;

Sec. 18;

Sec. 19, lots 3 and 4, E½SW¼, and SE¼;

Secs. 20 and 29;

Sec. 30, lots 1 to 4, E½, and E½W½.

T. 24 N., R. 33 E.,

Secs. 20, 30, and 32.

The area described for B-20 contains 21,577 acres in Churchill County.

Shoal Site

T. 15 N., R. 32 E.,

Secs. 4 and 5;

Sec. 8, N½;

Sec. 9, N½.

T. 16 N., R. 32 E.,

Secs. 33 and 34.

The area described for Shoal Site contains 2,560 acres in Churchill County.

The areas B-16, B-17, B-19, B-20, and Shoal Site aggregate 133,496.51 acres. Portions of these lands are unsurveyed and the acres were based on protraction diagrams. Pursuant to section 3011(a)(1) of Public Law 106-65, dated October 5, 1999, these areas were withdrawn from all forms of appropriation under the public land laws, including the mining laws, and the mineral leasing and geothermal leasing laws.

Dixie Valley Training Area

T. 16 N., R. 33 E.,

Sec. 1, that portion lying north of the northerly right-of-way boundary for U.S. Highway 50;

Sec. 2, that portion lying north of the northerly right-of-way boundary for U.S. Highway 50;

Sec. 3, that portion lying north of the northerly right-of-way boundary for U.S. Highway 50;

Sec. 4, that portion lying north of the northerly right-of-way boundary for U.S. Highway 50;

Sec. 5, that portion lying north of the northerly right-of-way boundary for U.S. Highway 50.

T. 17 N., R. 33 E.,

Secs. 1 to 5, inclusive;

Secs. 8 to 17, inclusive;

Secs. 20 to 29, inclusive;

Secs. 32 to 36, inclusive.

T. 18 N., R. 33 E.,

Sec. 9, E½;

Sec. 10, that portion south of Elevenmile Canyon Wash;

Sec. 13, that portion south of Elevenmile Canyon Wash;

Sec. 14, that portion south of Elevenmile Canyon Wash;

Sec. 15,

Sec. 16, E½;

Secs. 21 to 28, inclusive;

Sec. 29, E½;

Secs. 32 to 36.

T. 16 N., R. 33½ E.,

Sec. 1, that portion north of the northerly right-of-way boundary for U.S. Highway 50.

T. 17 N., R. 33½ E.,

Secs. 1, 12, 13, 24, 25, and 36;

T. 18 N., R. 33½ E.,

Sec. 13, those portions of lot 4 and the E½SW¼ south of Elevenmile Canyon Wash;

Sec. 24, lots 1 to 4, inclusive, E½SW¼, SE¼, and those portions of the E½NW¼ and the NE¼ south of Elevenmile Canyon Wash;

Secs. 25 and 36.

T. 16 N., R. 34 E.,

Sec. 4, lots 3 and 5;

Sec. 5, that portion north of the northerly right-of-way boundary for U.S. Highway 50;

Sec. 6, that portion north of the northerly right-of-way boundary for U.S. Highway 50.

T. 17 N., R. 34 E.,

Sec. 3, lots 3 and 4, S½NW¼, and SW¼;

Secs. 4 to 9, inclusive;

Sec. 10, W½;

Sec. 15, W½;

Secs. 16 to 21, inclusive;

Sec. 22, W½;

Sec. 27, W½;

Secs. 28 to 33, inclusive;

Sec. 34, W½.

T. 18 N., R. 34 E.,

Sec. 3;

Sec. 4, lot 1, SE¼NE¼, E½SE¼, and those portions of lot 2, SW¼NE¼, W½SE¼, lying east of the easterly right-of-way boundary for State Route 121 (Dixie Valley Road);

Sec. 9, E½E½, and that portion of the W½E½ lying east of the easterly right-of-way boundary for State Route 121 (Dixie Valley Road);

Secs. 10 and 15;

Sec. 16, E½E½, and that portion of the W½E½ lying east of the easterly right-of-way boundary for State Route 121 (Dixie Valley Road);

Sec. 19, lots 2 to 4, inclusive, E½SW¼, SE¼, and those portions of the S½NE¼ and SE¼NW¼ lying south of Elevenmile Canyon Wash;

Sec. 20, that portion lying south of Elevenmile Canyon Wash;

Sec. 21, E½, and that portion of the E½W½ lying east of the easterly right-of-way boundary for State Route 121 (Dixie Valley Road), and that portion of W½SW¼ lying south of Elevenmile Canyon Wash;

Sec. 22;

Secs. 27 to 34.

T. 19 N., R. 34 E.,

Sec. 3;

Sec. 4, those portions of lot 1, SE¼NE¼, E½SE¼, lying east of the easterly right-of-way boundary for State Route 121 (DixieValley Road);

Sec. 9, that portion of E½ lying east of the easterly right-of-way boundary for State Route 121 (Dixie Valley Road);

Secs. 10 and 15;

Sec. 16, that portion of E½ lying east of the easterly right-of-way boundary for State Route 121 (Dixie Valley Road);

Sec. 21, that portion of E½ lying east of the easterly right-of-way boundary for State Route 121 (Dixie Valley Road);

Secs. 22 and 27;

Sec. 28, that portion of E½ lying east of the easterly right-of-way boundary for State Route 121 (Dixie Valley Road);

Sec. 33, that portion of E½ lying east of the easterly right-of-way boundary for State Route 121 (Dixie Valley Road);

Sec. 34.

T. 20 N., R. 34 E.,

Sec. 2, lots 2 to 4, inclusive, SE¼NE¼, S½NW¼, SW¼, and W½SE¼;

Sec. 3, lot 1, SE¼NE¼, and E½SE¼;

Sec. 10, E½E½;

Sec. 11, W½E½ and W½;

Sec. 26, W½E½ and W½;

Sec. 27;

Sec. 28, that portion of the E½E½ lying east of the easterly right-of-way boundary for State Route 121 (Dixie Valley Road);

Sec. 33, that portion of the E½E½ lying east of the easterly right-of-way boundary for State Route 121 (Dixie Valley Road);

Sec. 34.

T. 21 N., R. 34 E.,

Sec. 25, lots 1 and 2, W½NE¼, and NW¼.

T. 21 N., R. 35 E.,

Sec. 17, W½;

Sec. 18, lots 5 to 11, inclusive, and E½SE¼SE¼NE¼.

The Dixie Valley Training Area contains 68,437 acres in Churchill County. Portions of these lands are unsurveyed and acres are based on protraction diagrams. Pursuant to Section 3011(a)(1) of Public Law 106-65, dated October 5, 1999, these areas were withdrawn from all forms of appropriation under the public land laws, including the mining laws, and the geothermal leasing laws, but not the mineral leasing laws.

A copy of the legal description and the map depicting the withdrawn lands are available for public inspection at the following offices:

Director (350), BLM, 1620 L Street, NW., Room 1000, Washington, DC 20036

State Director, BLM, Nevada State Office, 1430 Financial Blvd., Reno, Nevada, 89502

Field Manager, BLM Carson City Field Office, 5665 Morgan Hill Rd., Carson City, Nevada, 89701.

Commanding Officer, Naval Air Station Fallon, 4755 Pasture Road, Fallon, Nevada 89496-5000

Commanding Officer, Engineering Field Activity Northwest, Naval Facilities Engineering Command, 19917 7th Ave. NE, Poulsbo, Washington 98370

Dated: September 29, 2000.
Margaret L. Jensen,
Deputy State Director, Natural Resources, Lands, and Planning.

[FR Doc. 00-25688 Filed 10-5-00; 8:45 am]

BILLING CODE 4310-HC-P